DEPARTMENT OF TRANSPORTATION

Federal Aviation Administration

[Policy Statement No. ANM-115-05-10]

Replacing Restraint Systems on Forward and Aft Facing Seats

AGENCY: Federal Aviation Administration (FAA), DOT.

ACTION: Notice of final policy.

SUMMARY: The Federal Aviation Administration (FAA) announces the availability of final policy on Replacing Restraint Systems on Forward and Aft Facing Seats.

DATES: The final policy was issued by the Transport Airplane Directorate on August 10, 2005.

FOR FURTHER INFORMATION CONTACT: Mike Thompson, Federal Aviation Administration, Transport Airplane Directorate, Transport Standards Staff, Standardization Branch, ANM-113, 1601 Lind Avenue SW., Renton, WA 98055-4056; telephone (425) 227-1157; fax (425) 227-1232; e-mail: Michael.t.thompson@faa.gov.

SUPPLEMENTARY INFORMATION:

Disposition of Comments

A notice of proposed policy was published in the Federal Register on April 11, 2005. Five (5) commenters responded to the request for comments.

Background

The FAA has issued Amendment 25-64 to provide an increased level of safety to seated occupants. Seat performance, including the restraint system, under dynamic conditions as defined in § 25.562, is an important consideration of this amendment. Replacing a restraint system on a seat certified under § 25.562 requires new dynamic test(s) to be conduct using the actual seat. These dynamic tests can be costly and time-consuming. The FAA conducted research and found an acceptable new method of certifying restraint systems using a rigid seat fixture instead of the actual seat during dynamic tests. This method will significantly reduce the cost and time associated with certifying replacement restraint systems. This policy memorandum presents this new means of compliance.

The final policy as well as the disposition of public comments received are available on the Internet at the following address: http://www.airweb.faa.gov/rgl. If you do not have access to the Internet, you can obtain a copy of the policy by contacting the person listed under FOR FURTHER INFORMATION CONTACT.

Issued in Renton, Washington, on August 10, 2005.
Ali Bahrami,
Manager, Transport Airplane Directorate, Aircraft Certification Service.

[FR Doc. 05-16409 Filed 8-17-05; 8:45 am]

BILLING CODE 4910-13-M